DEPARTMENT OF EDUCATION

Office of Special Education and Rehabilitative Services; Notice Inviting Applications for New Awards for Fiscal Year (FY) 2003

AGENCY: Department of Education.

ACTION: Notice inviting applications for new awards for fiscal year (FY) 2003.

SUMMARY: This notice announces closing dates, priorities, and other information regarding the transmittal of grant applications for FY 2003 competitions under three programs authorized under part D, subpart 2 of the Individuals with Disabilities Education Act, as amended (IDEA). The three programs are: (1) Special Education—Research and Innovation to Improve Services and Results for Children with Disabilities (2 priorities); (2) Special Education—Technical Assistance and Dissemination to Improve Services and Results for Children with Disabilities (2 priorities); and (3) Special Education—Technology and Media Services for Individuals with Disabilities (3 priorities).

Please note that significant dates for the availability and submission of applications, as well as important fiscal information, are listed in a table at the end of this notice.

Waiver of Rulemaking

It is generally our practice to offer interested parties the opportunity to comment on proposed priorities. However, section 661(e)(2) of IDEA makes the public comment requirements in the Administrative Procedure Act (5 U.S.C. 553) inapplicable to the priorities in this notice.

General Requirements

(a) The projects funded under this notice must make positive efforts to employ and advance in employment qualified individuals with disabilities (see section 606 of IDEA).

(b) Applicants and grant recipients funded under this notice must involve individuals with disabilities or parents of individuals with disabilities in planning, implementing, and evaluating the projects (see section 661(f)(1)(A) of IDEA).

(c) The projects funded under these priorities must budget for a two-day Project Directors' meeting in Washington, DC during each year of the project.

(d) In a single application, an applicant must address only one absolute priority in this notice.

(e) If a project maintains a Web site, it must include relevant information and documents in an accessible form.

Page Limit

If you are an applicant, part III of each application, the application narrative, is where you address the selection criteria that are used by reviewers in evaluating the application. You must limit part III to the equivalent of no more than the number of pages listed in the table at the end of this notice, using the following standards:

• A “page” is 8.5″ x 11″ (on one side only) with one-inch margins (top, bottom, and sides).

• Double-space (no more than three lines per vertical inch) all text in the application narrative, including titles, headings, footnotes, quotations, and captions, as well as all text in charts, tables, figures, and graphs.

• Use a font that is either 12-point or larger or no smaller than 10 pitch (characters per inch).

The page limit does not apply to part I—the cover sheet; part II—the budget section, including the narrative budget justification; part IV, the assurances and certifications; or the one-page abstract, the resumes, the bibliography or references, or the letters of support. However, you must include all of the application narrative in part III.

We will reject without consideration or evaluation any application if —

• You apply these standards and exceed the page limit; or

• You apply other standards and exceed the equivalent of the page limit.

Application Procedures

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Project for Electronic Submission of Applications

In Fiscal Year 2003, the U.S. Department of Education is continuing to expand its pilot project of electronic submission of applications to include additional formula grant programs and additional discretionary grant competitions. The three programs in this announcement: Research and Innovation to Improve Services and Results for Children with Disabilities—CFDA 84.324, Technical Assistance and Dissemination to Improve Services and Results for Children with Disabilities—CFDA 84.326, and Technology and Media Services for Individuals with Disabilities—CFDA 84.327, are included in the pilot project. If you are an applicant for a grant under any of the three programs, you may submit your application to us in either electronic or paper format.

The pilot project involves the use of the Electronic Grant Application System (e-Application). Users of e-Application will be entering data on-line while completing their applications. You may not e-mail a soft copy of a grant application to us. If you participate in this voluntary pilot project by submitting an application electronically, the data you enter on-line will be saved into a database. We request your participation in e-Application. We shall continue to evaluate its success and solicit suggestions for improvement.

If you participate in e-Application, please note the following:

• Your participation is voluntary.

• You will not receive any additional point value because you submit a grant application in electronic format, nor will we penalize you if you submit an application in paper format. When you enter the e-Application system, you will find information about its hours of operation.

• You may submit all documents electronically, including the Application for Federal Education Assistance (ED 424), Budget Information—Non-Construction Programs (ED 524), and all necessary assurances and certifications.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 260-1349.

• We may request that you give us original signatures on all other forms at a later date.

• Closing Date Extension in Case of System Unavailability: If you elect to participate in the e-Application pilot for the Research and Innovation to Improve Services and Results for Children with Disabilities Program, the Technical Assistance and Dissemination to Improve Services and Results for Children with Disabilities Program, or the Technology and Media Services for Individuals with Disabilities Program and you are prevented from submitting your application on the closing date because the e-Application system is unavailable, we will grant you an extension of one business day in order to transmit your application electronically, by mail, or by hand delivery. For us to grant this extension—

1. You must be a registered user of e-Application, and have initiated an e-Application for this competition; and

2. (a) The e-Application system must be unavailable for 60 minutes or more between the hours of 8:30 and 3:30 p.m., Washington, DC time, on the deadline date; or

(b) The e-Application system must be unavailable for any period of time during the last hour of operation (that is, for any period of time between 3:30 and 4:30 p.m., Washington, DC time) on the deadline date.

The Department must acknowledge and confirm these periods of unavailability before granting you an extension. To request this extension you must contact either (1) The person listed elsewhere in this notice under FOR FURTHER INFORMATION CONTACT or (2) the e-GRANTS help desk at 1-888-336-8930.

You may access the electronic grant application for the Research and Innovation to Improve Services and Results for Children with Disabilities Program, the Technical Assistance and Dissemination to Improve Services and Results for Children with Disabilities Program, or the Technology and Media Services for Individuals with Disabilities Program at: http://e-grants.ed.gov.

We have included additional information about the e-Application pilot project (see Parity Guidelines between Paper and Electronic Applications) in the application packages.

Research and Innovation To Improve Services and Results for Children With Disabilities [CFDA Number 84.324]

Purpose of Program

To produce, and advance the use of, knowledge to improve the results of education and early intervention for infants, toddlers, and children with disabilities.

Eligible Applicants

State educational agencies (SEAs); local educational agencies (LEAs); institutions of higher education (IHEs); other public agencies; nonprofit private organizations; outlying areas; freely associated States; and Indian tribes or tribal organizations.

Applicable Regulations

(a) The Education Department General Administrative Regulations (EDGAR) in 34 CFR parts 74, 75, 77, 79, 80, 81, 82, 85, 86, 97, 98, and 99; and (b). The selection criteria, chosen from the EDGAR general selection criteria in 34 CFR 75.210. The specific selection criteria for these competitions will be provided in the application package for these competitions.

Note: The regulations in 34 CFR part 86 apply to IHEs only.

Note: The regulations in 34 CFR part 79 apply to all applicants except federally recognized Indian tribes.

Priorities

Under 34 CFR 75.105(c)(3), we consider only applications that meet one of the following priorities:

Absolute Priority 1—Research Validation and Implementation Project for Children Who Are Deaf-Blind (84.324D)

Background

New evidence-based research findings, including those related to hearing impairment, visual impairment, and other disabilities, have not been rapidly or systematically applied to children who are deaf-blind. These children are at high risk for exclusion from evidence-based research practices that promote high student achievement.

Priority

This priority supports a cooperative agreement to validate evidence-based research findings by translating those findings into procedures usable by personnel serving children who are deaf-blind, implementing new intervention procedures in home and community settings, and evaluating the effectiveness of the new procedures in meeting the early intervention and educational needs of children who are deaf-blind.

Projects are expected to address one or more of the following areas of investigation: (a) Assessment of communication and cognitive development in infants, toddlers, and young children who are deaf-blind; (b) improving communication and language development for children who are deaf-blind including alternative forms for those children who do not use signs or speech; (c) learning strategies that encourage systematic instruction with a clear focus on targeting specific educational outcomes and producing knowledge on how these outcomes are achieved and replicated; (d) use of innovative technology to increase access to education and enhance learner performance; (e) transition from school to work; and (f) improved strategies and models for the use of paraprofessionals, including the intervenor. An intervenor is a term used in the deaf-blind community to describe an individual who provides direct support for all or part of the instructional day to a student who is deaf-blind.

The project must:

(a) Form a consortium with one or more research institutions at other locations to (1) Validate new approaches with multiple children and in multiple settings and (2) replicate initial evaluation findings.

(b) Identify specific research findings and the interventions or strategies based on those findings that will be implemented and evaluated;

(c) Carry out the project activities within a conceptual framework that provides a basis for the areas of investigation, the interventions or strategies to be implemented and evaluated, the evaluation design, and the target population;

(d) Produce a variety of descriptive and outcome data, including (1) Information regarding the settings, the service providers, the children, and if applicable, their families, targeted by the project (e.g., age, disabilities, skill and ability levels); and (2) multiple, performance outcome data regarding the children and families who are the focus of the interventions or strategies;

(e) Address causal questions by employing randomized experimental designs, to the extent appropriate; and

(f) Translate research findings into demonstrable practice that provides the informational bridge necessary to (1) Move research into practice, and (2) reduce lag time between research and implementing practice for children who are deaf-blind.

Fourth and Fifth Years of Project

In deciding whether to continue this project for the fourth and fifth years, the Secretary will consider the requirements of 34 CFR 75.253(a), and in addition —

(a) The recommendation of a review team consisting of experts selected by the Secretary which review will be conducted during the last half of the project's second year in Washington, DC. The project must budget for the travel associated with this one-day intensive review;

(b) The timeliness and effectiveness with which all requirements of the negotiated cooperative agreement have been or are being met by the project; and

(c) The degree to which the project's design and methodology demonstrate the potential for advancing significant new knowledge.

Absolute Priority 2—Center on Outcomes for Infants, Toddlers, and Preschoolers With Disabilities (84.324L)

Background

The NCLB Act and the IDEA Amendments of 1997 emphasize accountability in improving results for children with disabilities. With the Administration's “Good Start, Grow Smart” early childhood initiative, programs serving young children such as Head Start, Early Head Start, and State-funded Pre-Kindergarten programs are beginning to develop standards, outcome measures, and accountability systems to track the progress of the children they serve.

As part of this emphasis on accountability for results, reliable and valid outcome measures designed for young children with disabilities and their families must be developed and implemented.

Priority

The purpose of this priority is to fund a cooperative agreement to support a center to provide national leadership in the development and use of outcome information by early intervention and preschool special education programs and personnel. This Center must identify current and best practices in measuring outcomes for children with disabilities birth through five years of age and their families, served under parts C and B of IDEA, including performance indicators and assessment methodologies. The Center must accomplish this mission through a combination of research, technical assistance, dissemination, collaboration, and other leadership functions.

The Center's research activities must include, but are not limited to:

(a) Conducting an annual survey of State educational agencies (SEAs), local educational agencies (LEAs), and part C Lead Agencies (LAs) to determine their current progress in identifying outcomes for children with disabilities birth through five years of age and their families, and in developing performance indicators and assessment methodologies to measure the progress of children birth through five years of age and their families served under IDEA (including determining the age range of the children in accountability systems and whether or not they are aligned with other accountability systems such as Head Start, State Pre-K, and K-12 accountability systems);

(b) Evaluating State and local policies and practices to determine valid and technically adequate approaches to measuring the progress of young children with disabilities (in areas such as cognition, pre-reading and language skills, communication, social-emotional development, adaptive/self-help skills, and physical development);

(c) Conducting an annual review of State reports and parts C and B data to track the development of State parts C and B accountability systems and the status of State data systems;

(d) Synthesizing research on relevant topics such as the technical adequacy of outcome measures for young children vis-a-vis the range of disabilities defined under IDEA; the variation of eligibility criteria for services among States; the measurement of satisfaction of parents regarding children's progress; the impact of families on children's outcomes; the methods for aggregating data from child and family measures for use at the local, State, and Federal level; and procedures for data analysis and reporting;

(e) Conducting, collaborating in, or commissioning focused research studies on topics related to outcomes and measurement of the performance of programs serving young children with disabilities and their families, including work to ensure that technically adequate measures of outcomes for young children with disabilities are identified or developed; and

(f) Conducting or commissioning a synthesis of the measures and approaches to measurement used for assessment of family outcomes, including work to ensure that technically adequate measures of outcomes for families are identified or developed.

The Center's technical assistance and dissemination activities must include, but are not limited to:

(a) Preparing and disseminating reports and documents on research findings and related topics;

(b) Maintaining a world wide Web site with relevant information and documents in an accessible formats for individuals with disabilities;

(c) Conducting national and regional meetings, in collaboration with other centers such as the National Early Childhood Technical Assistance Center, the Regional Resource Centers, and the National Center for Special Education Accountability Monitoring, and the national and regional parent technical assistance centers to assist part C lead agencies, SEAs, LEAs, and local agencies in working collaboratively with stakeholders to develop accountability systems to measure the progress of children birth through five served under IDEA.

(d) Working directly with State educational agencies, local educational agencies, local agencies, and other stakeholders to develop and improve accountability systems to measure progress of children with disabilities, birth through five; and

(e) Developing and applying strategies for dissemination of information to specific audiences, including teachers, service providers, families, administrators, policymakers, and researchers. Such strategies must involve collaboration with other technical assistance providers, organizations, and researchers as described below.

The Center's collaboration and other leadership activities must include, but are not limited to:

(a) Maintaining communication and collaboration with other technical assistance providers (including the National Early Childhood Technical Assistance Center, the Regional Resource Centers, the Federal Resource Center, the National Center for Special Education Accountability Monitoring, the National Center on Educational Outcomes, Parent Training and Information Centers, and others) and organizations (including the National Association of State Directors of Special Education, the Council for Exceptional Children, the Infant and Toddler Coordinator's Association, Council of Chief State School Officers, parent and disability organizations, and others), as well as technical assistance projects funded under Office of Elementary and Secondary Education and Head Start concerning the development of outcome measures for young children with disabilities and accountability-related activities;

(b) Maintaining communication and collaboration with researchers (including researchers funded by the Institute of Education Sciences, the National Institute of Child Health and Human Development, the National Institute of Mental Health, and Administration for Children and Families) studying outcome measures for young children, accountability systems for programs serving young children, and related topics in order to promote the use of research findings and measures;

(c) Working directly with State educational agencies, local educational agencies, local agencies, technical assistance providers, parent organizations, parent trainers, other relevant organizations, and researchers to build consensus among stakeholders on what is important to measure, how the measurement should be conducted, the importance of using outcome indicators in early intervention and preschool special education, and the selection of child outcomes and indicators and family outcomes and indicators. The strategies for developing measures should include broad stakeholder input as to what they are, and how they should be considered;

(d) Convening conferences, at the request of OSEP, on topics related to the development of outcome measures and accountability systems for young children served under IDEA; and

(e) Collaborating and coordinating with Head Start and regular early childhood programs.

The Center must also:

(a) Establish, maintain, and meet at least annually with an advisory committee consisting of representatives of State and local educational and part C lead agencies, individuals with disabilities, parents of children with disabilities, including parents of young children with disabilities, educators, service providers, professional organizations and advocacy groups, researchers, and other appropriate groups to review and advise on the Center's activities and plans. The committee membership must include individuals who are from communities representing rural, low-income, urban, and limited English proficient populations;

(b) Establish, maintain, and meet at least annually with a technical workgroup consisting of SEA, LEA, and part C LA data specialists, researchers, and other appropriate individuals to advise on the Center's technical and research activities;

(c) Fund as project assistants at least three doctoral students per year who have concentrations in relevant topics such as early childhood special education, early intervention, assessment, educational policy, and administration;

(d) In addition to the two-day Project Directors Meeting listed in the General Requirements section of this notice, budget for two additional two-day trips annually to Washington, DC, to attend an additional Project Director meeting and to attend an OSEP Leadership Conference; and one trip a month to attend appropriate meetings convened by the Department of Education, and other Centers and organizations.

Fourth and Fifth Years of Project

In deciding whether to continue this project for the fourth and fifth years, the Secretary will consider the requirements of 34 CFR 75.253(a), and in addition—

(a) The recommendation of a review team consisting of experts selected by the Secretary which review will be conducted during the last half of the project's second year in Washington, DC. Projects must budget for the travel associated with this one-day intensive review;

(b) The timeliness and effectiveness with which all requirements of the negotiated cooperative agreement have been or are being met by the Center;

(c) The degree to which the project's design and methodology demonstrates the potential for advancing significant new knowledge; and

(d) Evidence of the degree to which the project's activities have contributed to changed practice and improved outcomes for children with disabilities.

Special Education—Technical Assistance and Dissemination To Improve Services and Results for Children With Disabilities [CFDA Number 84.326]

Purpose of Program

The purpose of this program is to provide technical assistance and information—through such mechanisms as institutes, regional resource centers, clearinghouses, and programs that support States and local entities in building capacity—to (1) Improve early intervention, educational, and transitional services and results for children with disabilities and their families; and (2) address systemic-change goals and priorities.

Eligible Applicants

State educational agencies, local educational agencies, institutions of higher education, other public agencies, nonprofit private organizations, for-profit organizations, outlying areas, freely associated States, and Indian tribes or tribal organizations.

Applicable Regulations

(a) The Education Department General Administrative Regulations (EDGAR) in 34 CFR parts 74, 75, 77, 79, 80, 81, 82, 85, 86, 97, 98, and 99; and (b) The selection criteria, chosen from the general selection criteria in 34 CFR 75.210. The specific selection criteria for these competitions will be provided in the application package for these competitions.

Note: The regulations in 34 CFR part 86 apply to institutions of higher education only.

Note: The regulations in 34 CFR part 79 apply to all applicants except federally recognized Indian tribes.

Priorities

Under 34 CFR 75.105(c)(3) we consider only applications that meet one of the following priorities:

Absolute Priority 1—National Dropout Prevention Center for Students With Disabilities (84.326Q)

Background

The National Longitudinal Transition Study (NLTS) reported that 38 percent of students with disabilities who left school did so by dropping out, 30 percent enrolled in high school but did not finish, and 8 percent dropped out before entering high school. In 1996, Blackorby and Wagner found the dropout rate for students with disabilities to be approximately twice that of regular education students. Through technical assistance that will lead to improved results for children with disabilities, this priority is expected to have a significant impact on dropout prevention, the improvement of educational services, and interagency coordination.

Priority

The Secretary establishes an absolute priority for a cooperative agreement to support a National Dropout Prevention Center for Students with Disabilities to provide guidance and assistance to States, schools, families, agencies, and communities in designing, implementing, and evaluating effective comprehensive dropout prevention programs based on scientifically validated practices for students with disabilities. The Center will focus on two broad areas: (1) Prevention and Educational Programs, and (2) Reentry. The Center must address these areas through knowledge development activities and technical assistance and dissemination.

Knowledge development activities of the Center must include, but are not limited to:

(a) Conducting an annual survey of States to determine the current status of implementation of scientifically validated dropout prevention and educational and reentry programs and evaluating policies and practices that sustain or pose barriers to these interventions. Reentry program status must include information on service options such as the general education diploma (GED) participation, test accommodations on the GED, and adult education programs.

(b) Contracting with the What Works Clearinghouse to identify effective exemplary programs for wide replication.

(c) Organizing and synthesizing research, policy, and practice and advances in the two focus areas.

Technical assistance and dissemination activities of the Center must include, but are not be limited to:

(a) Responding to written and telephone inquiries with research-validated information.

(b) Collaborating with the National Center on Secondary Education and Transition and the Office of Special Education Programs (OSEP)-supported Promoting What Works Synthesis Center on the preparation and dissemination of information materials designed to increase awareness of and the use of research-validated practices by a variety of audiences (e.g., educators, policy makers, service providers, families, community agencies).

(c) Developing partnerships and communications around dropout issues with leaders and key stakeholders in special education and regular education, State and school level administrators, and consumer and advocacy organizations such as the Parent Training and Information Centers (PTIs).

(d) Establishing a coordinated network of researchers, practitioners, policy makers, families, service providers, community agencies, business groups who will serve as resources to States in designing and implementing effective programs.

(e) Providing for information exchanges between researchers and practitioners who direct effective model programs and those seeking to design, implement, or replicate these models. Information must be exchanged through a variety of methods, including a national forum during the first year, and a national forum in the fifth year. These exchanges must be designed to expand the coordinated interagency network, create a dialog about systemic comprehensive services, develop awareness of the scientifically based practices in dropout prevention and education programming, and reentry. This forum must include exemplars and descriptions of model programs addressing the two focus areas.

(f) Packaging a set of effective models that would permit others to replicate or implement effective practices that also include alternative approaches to delivery of effective services for students. The package must identify barriers and effective programming and suggest effective proven strategies for working with students with disabilities from low socio-economic backgrounds, speakers of English as a second language, those who become pregnant, and those who repeat a grade or more.

(g) Developing and implementing strategic activities to provide technical assistance to States to assist them in the development of effective systems to address the dropout problem.

(h) Coordinating with the OSEP contractor in working with States to improve data quality and analyze the approaches to assess the nature and extent of the problem.

(i) Assisting States in developing model districts and school sites and help States replicate these models throughout the State.

(j) Providing technical assistance to States focused on needs identified in the State survey and State's commitment to implementation.

(k) Submitting for approval a proposal describing the content and purpose of any new product, whether paper or electronic, to the document review board of OSEP's newly funded Dissemination Center, for which OSEP expects to fund this year.

(l) Providing OSEP-specified technical assistance to States. This effort may include participation in: (1) Collaborative Web-based technical assistance activities, (2) coordination of and participation in State-to-State communities of practice, and (3) direct technical assistance to OSEP-specified States through partnerships between OSEP and selected States. Staff time and project resources dedicated to provide technical assistance to OSEP-specified States will be negotiated with OSEP as part of the cooperative agreement within 30 days of the project award (OSEP anticipates that technical assistance to OSEP-specified States could averaged approximately $40,000 per year. Budgets should be developed with this in mind).

The Center must also:

(a) Meet with the OSEP project officer in the first two months of the project to review and refine the strategic plan of technical assistance and dissemination approaches;

(b) In addition to the two-day Project Director's Meeting listed in the general requirements section of this notice, budget for at least two annual planning meetings and eight two-day trips annually as requested by OSEP for Department briefings, Department sponsored conferences and other events.

(c) Maintain communication with the Federal project officer through monthly phone conversations and e-mail communication as needed. The Center must submit annual performance reports and provide additional written materials as needed for the project Federal officer to monitor the Center's work.

(d) Establish, maintain and meet at least biannually with an advisory committee consisting of representatives of State, local agencies, individuals with disabilities, persons from underrepresented populations, parent educators, professional organizations or advocacy groups, researchers, and other appropriate groups to review and advice the Center's activities and plans.

(e) Conduct evaluations of its specific activities and of the overall impact of its work. The Center must report its evaluation findings annually to the Federal project officer.

(f) Maintain a Web site with relevant information and documents in an accessible format with information available in both English and Spanish.

Fourth and Fifth Years of Project

In deciding whether to continue this project for the fourth and fifth years, the Secretary will consider the requirements of 34 CFR 75.253(a), and in addition—

(a) The recommendation of a review team consisting of experts selected by the Secretary which review will be conducted during the last half of the project's second year in Washington, DC. Projects must budget for the travel associated with this one-day intensive review;

(b) The timeliness and effectiveness with which all requirements of the negotiated cooperative agreement have been or are being met by the Center; and

(c) Evidence of the degree to which the Center's activities have contributed to a changed practice and improved student outcomes.

Absolute Priority 2—Center on Positive Behavioral Interventions and Supports (84.326S)

Background

In 1998 the Office of Special Education Programs (OSEP) funded the establishment of the Center on Positive Behavioral Interventions and Supports. This targeted technical assistance effort was a response to the newly reauthorized IDEA, which specified the need for the Individualized Education Program teams to consider, when appropriate, positive behavioral interventions and supports and other strategies to address problem behavior. Based on a strong history of application of these practices to improve the behavior of primarily individual students with mental retardation, recent research and demonstration has focused on expanding these practices to groups of students, classrooms, schools, districts, and States, focusing on building infrastructures of support that ultimately improve the school environment and the overall quality of life for children with challenging behaviors.

OSEP established this Center to give schools capacity-building information and technical assistance for identifying, adapting, and sustaining effective schoolwide disciplinary practices.

The Center had two primary foci: (1) Broad dissemination to schools, families, and communities about a technology of schoolwide positive behavioral interventions and support and (2) Demonstrations at the levels of individual students, schools, districts, and States of the feasibility and effectiveness of schoolwide positive behavioral interventions and support. The follow-up investment in this area will continue the work of the past five years building on the emerging Positive Behavioral Support (PBS) Blueprint for Practice with an emphasis on building State and district level infrastructures of support to enable efficient and effective large scale implementation and sustainability of positive behavior support. For further information on the PBS Blueprint for Practice and the work of the past investment go to http://www.PBIS.org.

Priority

This priority will support a cooperative agreement for a technical assistance center focusing on dissemination of research-based schoolwide practices, and systems of positive behavioral support that foster positive learning and teaching environments and support the large-scale implementation and sustainability of those practices for school-aged children. Positive behavioral support has been defined as a broad range of systematic and individualized strategies for achieving important social and learning outcomes while preventing problem behavior. The Center must engage in a variety of leadership and technical assistance activities regarding positive behavioral supports and related topics such as: schoolwide discipline systems; classroom and nonclassroom management; individual student behavioral management; functional assessment-based behavioral support planning; social skills and self-management instruction; safe schools; discipline and behavioral support policy; and family, school, and community partnerships.

The Center's knowledge development activities must include, but are not limited to, the following:

(a) Conducting an annual survey of States to determine the current status of establishing Statewide infrastructures to support systems of positive behavioral support and evaluate any policies and practices that sustain or pose barriers to these systems.

(b) Continuing documentation of the PBS practices by continued demonstrations across the continuum of primary, secondary, and tertiary interventions in elementary, middle, and high schools at the local level and system implementation at the district and State levels with particular emphasis on (1) Function-based support at the tertiary level; (2) district and State level implementation; (3) students in high schools; and (4) coordination with other agencies such as mental health and juvenile justice.

(c) Establishing a mechanism for assessing and synthesizing the growing research base on positive behavioral support. This process should include the establishment of a network of researchers to assist the Center in the analysis and synthesis of the current and emerging research on PBS and other related topics.

(d) Maintaining a database suitable for collecting and analyzing information from schools, districts and States on behavior measures such as office discipline referrals and other appropriate data to enable schools to make data-based decisions and track progress regarding PBS. The Center must have training and materials available to facilitate implementation of the data collection system at local sites. The Center will also be responsible for analysis of the data and producing reports on trends and patterns related to PBS and other topics as requested by OSEP such as analysis of urban and rural schools and overrepresentation issues.

The Center's technical assistance activities must include, but are not limited to, the following:

(a) Maintaining a user-friendly Web site with relevant information and documents in an accessible format with information available in both English and Spanish.

(b) Working directly with States and school districts to (1) Improve systemic implementation of positive behavioral supports and (2) establish and maintain an evaluation system based on a standard protocol such as the school evaluation tool (SET, see http://www.pbis.org) to measure progress of implementation. This work must also include a plan for the establishment of a cadre of national trainers and a system for communication and discussion among State implementation teams.

(c) Conducting national and regional meetings including large-scale dissemination conferences, focused trainer forums, topical symposia and other meetings on PBS and related issues as requested by OSEP. At a minimum the Center must hold trainer forums every other year, a symposia in the off years and a national conference in year 5.

(d) Preparing and disseminating reports and documents on positive behavioral support and other related topics such as those listed above including publications in peer-referred journals.

(e) Developing and applying strategies for the dissemination of information to specific audiences including teachers, families, administrators, policymakers, and researchers. Such strategies must involve collaboration with other technical assistance providers, organizations and researchers as described above.

(f) Developing partnerships with relevant programs and organizations to assist with the scale up and sustainability efforts. Partners are not limited to but must include national teacher organizations, school administrators, parent organizations, and teacher trainers.

(g) Prior to developing any new product, whether paper or electronic, submitting for approval a proposal describing the content and purpose of any new product whether paper or electronic, to the document review board of OSEP's new Dissemination Center which OSEP expects to fund this year.

(h) Providing OSEP-specified technical assistance to States. This effort may include participation in: (1) Collaborative Web-based technical assistance activities, (2) coordination of and participation in State-to-State communities of practice, and (3) direct technical assistance to OSEP-specified States through partnerships between OSEP and selected States. Staff time and project resources dedicated to provide technical assistance to OSEP-specified States will be negotiated with OSEP as part of the cooperative agreement within 30 days of the project award (OSEP anticipates that technical assistance to OSEP-specified States could average approximately $40,000 per year. Budgets should be developed with this in mind).

The Center must also:

(a) Meet with the OSEP project officer and other appropriate staff in DC within the first two months of the project to clarify project activities and develop a strategic plan for technical assistance and dissemination.

(b) Maintain communication with the Federal project officer through monthly phone conversations and e-mail communication as needed. The Center must submit annual performance reports and provide additional written materials as needed for the Federal project officer to monitor the Center's work.

(c) Establish, maintain and meet at least annually with an advisory committee consisting of representatives of State or local agencies, individuals with disabilities, parent educators, professional organizations or advocacy groups, researchers and other appropriate groups to review and advise the Center's activities and plans.

(d) Maintain communication and collaboration with other OSERS-funded projects such as the OSEP Regional Resource Centers, the IDEA Partnership Project, the Parent Training and Information Centers and other parent projects, the National Institute on Disability and Rehabilitation Research's Research Training Center on PBS, other OSEP PBS projects, dissemination and synthesis projects, and other projects as appropriate.

(e) Fund, as project assistants, three doctoral students per year who have concentrations in relevant topics such as special education or behavioral disorders.

(f) Conduct evaluations of its specific activities and of the overall impact of its work. The Center must report its evaluation findings annually to the Federal project officer.

(g) In addition to the two-day Project Meeting listed in the general requirements section of this notice, budget for an additional two-day project meeting to attend the Research Project Meeting and at least two annual planning meetings; and eight two-day trips annually as requested by OSEP to attend meetings such as Department briefings, Department-sponsored conferences; and other OSEP-requested activities.

Fourth and Fifth Years of Project

In deciding whether to continue this project for the fourth and fifth years, the Secretary will consider the requirements of 34 CFR 75.253(a), and in addition—

(a) The recommendation of a review team consisting of experts selected by the Secretary which review will be conducted during the last half of the project's second year in Washington, DC. Projects must budget for the travel associated with this one-day intensive review;

(b) The timeliness and effectiveness with which all requirements of the negotiated cooperative agreement have been or are being met by the Center; and

(c) Evidence of the degree to which the Center's activities have contributed to a changed practice and improved student outcomes.

Special Education—Technology and Media Services for Individuals With Disabilities [CFDA Number 84.327]

Purpose of Program

To: (1) Improve results for children with disabilities by promoting the development, demonstration, and use of technology; (2) support educational media activities designed to be of educational value to children with disabilities; and (3) provide support for some captioning, video description, and cultural activities.

Applicable Regulations

(a) The Education Department General Administrative Regulations (EDGAR) in 34 CFR parts 74, 75, 77, 79, 80, 81, 82, 85, 86, 97, 98, and 99; and (b) The selection criteria for this priority are chosen from the EDGAR general selection criteria in 34 CFR 75.210. The specific selection criteria for these competitions will be provided in the application package for these competitions.

Note: The regulations in 34 CFR part 86 apply to IHEs only.

Note: The regulations in 34 CFR part 79 apply to all applicants except federally recognized Indian tribes.

Eligible Applicants

State and local educational agencies; IHEs; other public agencies; nonprofit private organizations; outlying areas; freely associated States; Indian tribes or tribal organizations; and for-profit organizations.

Priority

Under 34 CFR 75.105(c)(3), we consider only applications that meet the following priorities:

Absolute Priority 1—Family Center on Technology and Disability (84.327F)

Background

Parents and families play a critical role in obtaining the benefits of assistive technology for students with disabilities. Parents must often advocate for making assistive technology available to their children and can help in selecting, planning, and implementing assistive technology. Family support is often an important determinant of the success or failure of assistive technology.

To fulfill these functions, parents and families must have up-to-date information about various forms of assistive technology and the processes for obtaining assistive technology devices and services. Parents and families may need to learn skills in using technology and helping students with disabilities in its use.

There is a national infrastructure of programs and organizations that can potentially address the assistive technology-related needs of parents and families. These include the Parent Training and Information Centers and the Community Parent Resource Centers funded by the Office of Special Education Programs (OSEP), disability and advocacy groups, professional associations, community groups, etc. However, these programs and organizations are often not adequately prepared to provide information and services related to assistive technology.

Since 1998, OSEP has funded a center called the Family Center on Technology and Disability (FCTD) not to work directly with parents but instead to work with other relevant programs and organizations to improve the availability and quality of technology-related information and support to families of children with disabilities. Information about FCTD is available at the Center's Web site at: http://www.fctd.info. The contract supporting FCTD is currently scheduled to end in September 2003.

Priority

The purpose of this priority is to support a cooperative agreement for a Center to improve the availability and quality of technology-related information and support to families of children with disabilities. The Center's activities must include, but are not limited to:

(a) Developing a strategic plan. The Center must review existing data and literature and develop a strategic plan for increasing the capacity of projects and organizations such as the Parent Training and Information Centers and the Community Parent Resource Centers funded by OSEP, disability and advocacy groups, professional associations, and community groups to meet the assistive technology needs of parents and families within the parameters of this priority. The purpose of this strategic plan is to integrate the Center's various activities, as described below, into a cohesive process for improving the capacity of projects and organizations to meet the assistive technology needs of parents and families.

(b) Maintaining and expanding a broad-based network. The Center must retrieve all available information on network members from the current FCTD contractor and establish a database and communication system for maintaining the network. The Center must also establish and carry out a plan for identifying and recruiting as network members other relevant programs and organizations that can help to address the technology-related needs of parents and families of children with disabilities.

(c) Providing information and support to the network. The Center must develop and carry out plans for providing network members with information and resources that will enable them to better meet the assistive technology needs of the parents and families with whom they work. The Center must develop and carry out plans for fostering communication and collaboration with and among the programs and organizations in the network to better meet the assistive technology needs of the parents and families. The Center must provide for information exchange through a newsletter.

(d) Developing strategic responses to direct inquiries from parents and families. It is likely that the Center will receive inquiries about assistive technology directly from parents and families of children with disabilities, even though it is not intended to provide this type of direct assistance. The Center must develop a plan for referring these contacts to the appropriate members of the network, and for using them as an opportunity for developing the capacity of projects and organizations to respond to the needs expressed.

(e) Collecting, revising, developing, and disseminating materials. The Center must retrieve the resource review database and materials collected by the current FCTD contractor and establish a searchable online database to continue making these reviews available to the public. The Center must continue to update and expand the resource review database by removing outdated materials and adding new materials. The Center must, to the maximum extent possible, include high quality resources that are available free of charge and downloadable from the Internet. The Center must focus on materials that are useful in meeting the assistive technology needs of parents and families, and must avoid, to the maximum extent possible, duplicating the functions of other online resources such as assitivetech.net and abledata.com.

(f) Participating in meetings, conferences, and events. The Center must participate in meetings, conferences, and other events to improve the capacity of other projects and organizations to meet assistive technology needs of parents and families. The Center's participation may include, but is not limited to, delivering presentations, exhibiting and demonstrating materials, conducting discussions, and participating in work groups.

(g) Maintaining an accessible Web site. The Center must maintain an accessible site on the Web with information about the Center, the searchable resource review database, topical online discussions, links to other relevant sites, newsletters, and other resources.

(h) Conducting evaluations. The Center must conduct evaluations of its activities to determine if it is meeting needs effectively and efficiently. The Center must report its evaluation findings annually to the Federal project officer.

(i) Maintaining communication with the Federal project officer. The Center must conduct monthly phone conversations with the Federal project officer and must maintain e-mail communication as needed. The Center must submit annual performance reports and provide additional written materials as needed for the Federal project officer to monitor the Center's work.

Fourth and Fifth Years of Project

In deciding whether to continue this project for the fourth and fifth years, the Secretary will consider the requirements of 34 CFR 75.253(a), and in addition—

(a) The recommendation of a review team consisting of experts selected by the Secretary which review will be conducted during the last half of the project's second year in Washington, DC. Projects must budget for the travel associated with this one-day intensive review;

(b) The timeliness and effectiveness with which all requirements of the negotiated cooperative agreement have been or are being met by the Center; and

(c) Evidence of the degree to which the Center's activities have contributed to a changed practice and improved student outcomes.

Absolute Priority 2—Television Access (84.327J)

This priority supports cooperative agreements to provide (1) Captioning of local news and public information television programs, and (2) captioning, description, or captioning and description of children's television programs. Only programs not previously captioned are eligible for funds for captioning under this activity. In awarding funds the Secretary will consider the extent to which the applicant or a third party shares in the cost of the project. Program hours or the costs of captioning associated with those programs that are funded by promotional billboards will not be considered as an in-kind cost, or a private sector match, for Federal funds.

A project must do the following:

(a) Include criteria for selecting programs that take into account the preference of educators, students, and parents; the diversity of the type of programming available; and the contribution of the programming to the general educational experience of students who have disabilities in the areas of vision or hearing.

(b) Identify and support a consumer advisory group, including parents and educators, that would meet at least annually.

(c) Use the expertise of this consumer advisory group to certify that each program captioned or described with project funds is educational, news, or informational programming.

(d) Identify the extent to which the programming is widely available.

(e) Identify the total number of program hours the project will make accessible and the cost per hour for description or captioning or both.

(f) For each program to be described or captioned or both, identify the source of any private or other public support, and the projected dollar amount of that support, if any.

(g) Demonstrate the willingness of program providers or owners of programs to permit and facilitate the description or captioning or both of their programs.

(h) Provide assurances from program providers or owners of programs stating that programs made accessible under this project will air, and will continue to air, with descriptions or captions or both.

(i) Implement procedures for monitoring the extent to which full accessibility is provided, and use this information to make refinements in project operations.

(j) Identify the anticipated shelf-life and range of distribution of the captioned or described programs that is possible without further costs to the project beyond the initial captioning costs.

An application may address only one type of the following programs—

(1) Local News and Public Information Programs. The Secretary intends to fund projects that will increase the capacity of the television captioning industry to respond to demands for accurate real-time captioning. To be funded a project must caption local news and public information programs using the real-time stenographic method preferred by consumers who are deaf or hard of hearing.

(2) Accessible Children's Television Programs. The Secretary intends to fund projects that will describe and caption widely available educational, news, and informational programs for children shown on broadcast, satellite, or cable systems.

Competitive Preference Priority

Within the Local News and Public Information Programs segment of this absolute priority, we award under 34 CFR 75.105(c)(2)(i) an additional 20 points to an application from an applicant that—

(a) During fiscal year 2002, was not a grantee or a subcontractor of a grantee under the Technology and Media Services for Individuals with Disabilities program; and

(b) Won't use a subcontractor who was a grantee or a subcontractor of a grantee under this program during fiscal year 2002.

Thus, an applicant meeting this competitive preference could receive a maximum possible score of 120 points.

Fiscal Information

Under this priority, we intend to make one or more awards in each of the two areas of activity identified.

Absolute Priority 3—Center on Technology and Standards-Based Reform for Students With Disabilities (84.327R)

Standards-based reform is premised on a “theory of action” in which standards, assessments, and accountability lead to improved curriculum and clear expectations for students and schools, which in turn lead to professional development and improved teaching, which ultimately lead to higher levels of student learning (Elmore and Rothman, Eds., 1999, available at http://www.nap.edu/catalog/9609.html). This theory suggests that for standards-based reform to benefit students with disabilities, certain conditions must be met. Among these are the following: (1) Assessments must be accessible and valid for the widest possible range of students with disabilities (with valid and reliable alternate assessments available for students with disabilities who cannot participate in general assessments); (2) Information on assessment results must be available to all appropriate parties in a timely fashion and must be applicable to instruction as well as to accountability; (3) Coherent standards-based instruction must be delivered, and student progress toward meeting standards must be monitored; (4) Principles of universal design must be applied to standards, assessments, curriculum, and instruction; and (5) Connections must be maintained between the components of the system, including standards, assessments, reporting, instructional planning, professional development, and instruction.

Priority

This priority supports a cooperative agreement for a center to conduct research, synthesize research, collect information, disseminate information, and provide assistance to States (in collaboration with other assistance providers) on the use of technology to maximize the benefits of standards-based reform for students with disabilities. Technologies may include, but are not limited to, technology-based assessments, computerized curriculum-based measurement, technology-based instruction, and technology-based systems for managing and analyzing information. The Center's work must address a range of the conditions necessary for standards-based reform to benefit students with disabilities as presented in the Background section of this priority, as well as other important conditions that become apparent during the course of the project.

The Center's activities must include, but are not limited to:

(a) Conducting research syntheses and needs assessments. The Center must conduct needs assessments through such means as stakeholder focus groups that include parents, individuals with disabilities, and others; analyze current State efforts and currently available products and approaches; and synthesize research relevant to the use of technology to increase the benefits of standards-based reform for students with disabilities. The products of these activities must be disseminated by means of the Web site discussed in paragraph (f) of this section.

(b) Developing and implementing a strategic plan. Based on its needs assessments, analyses of State efforts, and research syntheses, the Center must develop a strategic plan that integrates its activities in research, research synthesis, information collection, dissemination, and assistance to States. The goal of the strategic plan is to ensure that the Center's efforts are coherent, targeted at high-priority needs, and likely to have widespread positive effects. The Center must submit the strategic plan for approval by the Office of Special Education Programs (OSEP), and must revise the plan as instructed.

(c) Developing and evaluating approaches for using technology in standards-based reform. In collaboration with State and local educational agencies and other stakeholders, the Center must develop, implement, and evaluate approaches for using technology to increase the benefits of standards-based reform for students with disabilities. These approaches must be implemented in the context of ongoing State or local efforts related to standards-based reform. Specific approaches may address specific topics, but overall the Center's activities must address a range of the conditions presented in the first paragraph of the Background section above. Outcome measures must include the performance of students with disabilities on standards-based assessments.

(d) Providing collaborative assistance to States. In collaboration with other projects and organizations, the Center must provide assistance to States on the use of technology to maximize the benefits of standards-based reform for students with disabilities. This assistance must be designed to help as many States as possible, and may be provided in the context of national or regional conferences, professional meetings, internet-based assistance, or similar approaches.

(e) Coordinating with relevant Federal projects. The Center must share information and coordinate plans with other relevant federally funded projects. These projects may include, but are not limited to, the National Center on Educational Outcomes (NCEO), the National Center on Technology Innovation (NCTI), the National Center for Research on Evaluation, Standards, and Student Testing (CRESST), National Center on Accessing the General Curriculum (NCAC), and the Technology-Based Assessment (TBA) project sponsored by the National Center for Education Statistics.

(f) Maintaining a Web site. The Center must maintain a Web site for the purpose of disseminating information products and maintaining communication with and among interested parties.

(g) Conducting evaluations. The Center must conduct evaluations of its specific activities and of the overall impact of its work. The Center must report its evaluation findings annually to the Federal project officer.

(h) Convening an advisory committee. The Center must: (1) form an advisory committee that represents researchers, policymakers, State and local educational personnel, developers and vendors, individuals with disabilities, and other relevant perspectives; and (2) convene the advisory committee annually in the Washington, DC area to review the Center's work and suggest future research and dissemination activities.

(i) Maintaining communication with the Federal project officer. The Center must conduct monthly phone conversations with the Federal project officer and must maintain e-mail communication as needed. The Center must submit annual performance reports and provide additional written materials as needed for the Federal project officer to monitor the Center's work.

Fourth and Fifth Years of Project

In deciding whether to continue this project for the fourth and fifth years, the Secretary will consider the requirements of 34 CFR 75.253(a) for continuation awards.

The Secretary will also consider the following:

(a) The recommendation of a review team consisting of experts selected by the Secretary. The team will conduct its review in Washington, DC during the last half of the project's second year. A project must budget for the travel associated with this one-day intensive review;

(b) The timeliness and effectiveness with which all requirements of the negotiated cooperative agreement have been or are being met by the project; and

(c) The degree to which the project is making a positive contribution—and its strategies are demonstrating the potential for disseminating significant knowledge to State and local constituencies—to using technology to maximize the benefits of standards-based reform for students with disabilities.

Individuals With Disabilities Education Act Application Notice for Fiscal Year 2003
CFDA number and name | Applications available | Application deadline date | Deadline for intergovernmental review | Estimated available funds | Maximum award (per year)* | Project period | Page limit | Estimated number of awards
84.324D Research Validation and Implementation Projects for Children who are Deaf-Blind | 07/28/03 | 08/27/03 | 09/29/03 | $615,000 | $205,000 | Up to 60 mos | 50 | 3
84.324L Center on Outcomes for Infants, Toddlers, and Preschoolers with Disabilities | 07/28/03 | 08/27/03 | 09/29/03 | 700,000 | 700,000 | Up to 60 mos | 70 | 1
84.326Q National Dropout Prevention Center for Students with Disabilities | 07/28/03 | 08/27/03 | 09/29/03 | 700,000 | 700,000 | Up to 60 mos | 70 | 1
84.326S Center on Positive Behavioral Interventions and Supports | 07/28/03 | 08/27/03 | 09/29/03 | 1,700,000 | 1,700,000 | Up to 60 mos | 70 | 1
84.327F Family Center on Technology and Disability | 07/28/03 | 08/27/03 | 09/29/03 | 600,000 | 600,000 | Up to 60 mos | 70 | 1
84.327J Television Access | 07/28/03 | 08/27/03 | 09/29/03 |  |  | Up to 36 mos | 50 |
—Local News and Public Information Programs |  |  |  | 330,000 | 110,000 |  |  | 3
—Accessible Children's Television Programs |  |  |  | 800,000 | 200,000 |  |  | 4
84.327R Center on Technology and Standards-Based Reform for Students with Disabilities | 07/28/03 | 08/27/03 | 09/29/03 | 600,000 | 600,000 | Up to 60 mos | 70 | 1
*We will reject any application that proposes a budget exceeding the maximum award for a single budget period of 12 months.
Note: The Department of Education is not bound by any estimates in this notice.

For Applications Contact

If you want an application for any competition in this notice, contact Education Publications Center (ED Pubs), P.O. Box 1398, Jessup, Maryland 20794-1398. Telephone (toll free): 1-877-4ED-Pubs (1-877-433-7827). FAX: 301-470-1244. Individuals who use a telecommunications device for the deaf (TDD) may call (toll free) 1-877-576-7734.

You may also contact Ed Pubs via its Web site: http://www.ed.gov/pubs/edpubs.html or you may contact ED Pubs at its e-mail address: edpubs@inet.ed.gov.

If you request an application from ED Pubs, be sure to identify the competition by the appropriate CFDA number.

FOR FURTHER INFORMATION CONTACT: If you want an additional information about any competition in this notice, contact the Grants and Contracts Services Team, U.S. Department of Education, 400 Maryland Avenue, SW., room 3317, Switzer Building, Washington, DC 20202-2550. Telephone: (202) 205-8207.

If you use a telecommunications device for the deaf (TDD), you may call the Federal Information Relay Service (FIRS) at 1-800-877-8339.

Individuals with disabilities may obtain this document in an alternative format (e.g., Braille, large print, audiotape, or computer diskette) on request to the Grants and Contracts Services Team under FOR FURTHER INFORMATION CONTACT. However, the Department is not able to reproduce in an alternative format the standard forms included in the application package.

Intergovernmental Review

All programs in this notice (except for the Research and Innovation to Improve Services and Results for Children with Disabilities Program) are subject to the requirements of Executive Order 12372 and the regulations in 34 CFR part 79. One of the objectives of the Executive Order is to foster an intergovernmental partnership and a strengthened federalism. The Executive order relies on processes developed by State and local governments for coordination and review of proposed Federal financial assistance. This document provides early notification of our specific plans and actions for these programs.

Electronic Access to This Document

You may view this document, as well as all other Department of Education documents published in the Federal Register, in text or Adobe Portable Document Format (PDF) on the internet at the following site: http://www.ed.gov/legislation/FedRegister. To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo/nara/index.html.

Program Authority: 20 U.S.C. 1405, 1461, 1471, 1472, 1485, and 1487.

Dated: July 22, 2003.
Loretta Petty Chittum,
Acting Assistant Secretary for Special Education and Rehabilitative Services.

[FR Doc. 03-19083 Filed 7-25-03; 8:45 am]

BILLING CODE 4000-01-P